FEDERAL RESERVE SYSTEM

12 CFR Part 226

Open-end Model Forms and Clauses

CFR Correction

In Title 12 of the Code of Federal Regulations, parts 220 to 299, revised as of January 1, 2001, in Part 226, Appendix G is corrected by adding Table G-10(C) as follows:

PART 226—TRUTH IN LENDING (REGULATION Z)

* * * * *

Appendix G to Part 226—Open-End Model Forms and Clauses

* * * * *

* * * * *

[FR Doc. 01-55525 Filed 8-17-01; 8:45 am]

BILLING CODE 1505-01-D